DEPARTMENT OF TRANSPORTATION

Federal Aviation Administration

14 CFR Part 71

[Docket No. FAA-2013-0081; Airspace Docket No. 12-AEA-5]

RIN 2120-AA66

Establishment of Area Navigation (RNAV) Routes; Washington, DC

AGENCY: Federal Aviation Administration (FAA), DOT.

ACTION: Final rule.

SUMMARY: This action establishes five new RNAV routes in support of the Washington, DC, Optimization of Airspace and Procedures in a Metroplex project. The routes increase National Airspace System (NAS) efficiency and allow easier transition into the high altitude structure for departures from the Washington, DC Metropolitan area airports.

DATES: Effective date 0901 UTC, August 22, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

The FAA published in the Federal Register a notice of proposed rulemaking (NPRM) to establish three high altitude RNAV routes, designated Q-68, Q-72 and Q-80; and two low altitude RNAV routes, designated T-291 and T-295, in the Washington, DC area (78 FR 10562, February 14, 2013). Interested parties were invited to participate in this rulemaking effort by submitting written comments on the proposal. One comment was received and the commenter expressed support for the proposal.

The Rule

The FAA is amending Title 14, Code of Federal Regulations (14 CFR) part 71 by establishing three high altitude RNAV routes, designated Q-68, Q-72 and Q-80; and two low altitude RNAV routes, designated T-291 and T-295, in the Washington, DC area. The new Q-routes facilitate the divergence of aircraft departures from the Washington, DC, Metropolitan area airports, produce shorter routings and allow easier transition into the high altitude route structure. The Q-routes are one-way routes going westward and serve primarily as feeders and alternate dispersion routes for aircraft departing the DC Metro area to the west. The new T-routes reduce ATC complexity and provide shorter routes of flight in some cases.

The following routes are established. Q-68 extends between the Charleston, WV, VHF omnidirectional range tactical air navigation (VORTAC) aid and the OTTTO, VA, waypoint (WP). Q-72 extends between the HACKS, WV, intersection and the RAMAY, VA, WP. It provides an alternate route for jet route J-149 via a direct routing to the HACKS intersection, thus reducing miles flown for RNAV-equipped aircraft. Q-80 extends between the FAREV, KY, WP and the OTTTO, VA, WP to serve aircraft headed to the southwest.

T-291 extends between the LOUIE, MD, navigation fix and the Harrisburg, PA, VORTAC. T-295 extends between the LOUIE fix and the Lancaster, PA, VORTAC. T-291 and T-295 have a maximum assigned altitude (MAA) of 11,000 feet MSL. The new T-routes provide more efficient and predictable routing for aircraft utilizing airports near Harrisburg, PA, and the airports south of Patuxent River, MD, that normally fly VOR Federal airways V-31, V-33, V-93 and V-499 near the area. The T-routes also enhance segregation of those aircraft utilizing those airways from the DC Metro arrivals coming from the northeast and from the DC Metro departures headed eastbound.

The above routes increase NAS efficiency and advance the use of NextGen technology.

High altitude RNAV routes are published in paragraph 2006, and low altitude RNAV routes are published in paragraph 6011, respectively, of FAA Order 7400.9W dated August 8, 2012, and effective September 15, 2012, which is incorporated by reference in 14 CFR 71.1. The RNAV routes listed in this document would be subsequently published in the Order. The RNAV routes listed in this document will be published subsequently in the Order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes RNAV routes to enhance the safe and efficient flow of traffic in the Washington, DC Metropolitan area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012, and effective September 15, 2012, is amended as follows:

Paragraph 2006 United States Area Navigation Routes

* * * * *

Q68 Charleston, WV (HVQ) to OTTTO, VA [New]
Charleston, WV (HVQ) | VORTAC | (Lat. 38°20′59″ N., long. 081°46′12″ W.)
TOMCA,WV | WP | (Lat. 38°34′42″ N., long. 080°36′41″ W.)
RONZZ, WV | WP | (Lat. 38°33′16″ N., long. 080°07′57″ W.)
HHOLZ, WV | WP | (Lat. 38°38′02″ N., long. 079°41′33″ W.)
HAMME, WV | WP | (Lat. 38°42′30″ N., long. 079°14′39″ W.)
CAPOE, VA | WP | (Lat. 38°51′13″ N., long. 078°22′27″ W.)
OTTTO, VA | WP | (Lat. 38°51′16″ N., long. 078°12′20″ W.)
Q72 HACKS, WV to RAMAY, VA [New]
HACKS, WV | FIX | (Lat. 39°07′46″ N., long. 081°05′35″ W.)
GEQUE. WV | WP | (Lat. 39°05′19″ N., long. 080°17′58″ W.)
BENSH, WV | WP | (Lat. 39°01′10″ N., long. 079°10′29″ W.)
RAMAY, VA | WP | (Lat. 38°57′39″ N., long. 078°12′59″ W.)
Q80 FAREV, KY to OTTTO, VA [New]
FAREV, KY | WP | (Lat. 37°12′28″ N., long. 085°07′21″ W.)
JEDER, KY | WP | (Lat. 37°19′31″ N., long. 084°45′14″ W.)
ENGRA, KY | WP | (Lat. 37°29′02″ N., long. 084°15′02″ W.)
DEWAK, KY | WP | (Lat. 37°46′38″ N., long. 083°14′58″ W.)
CEGMA, KY | WP | (Lat. 37°54′00″ N., long. 082°50′32″ W.)
JONEN, KY | WP | (Lat. 37°59′09″ N., long. 082°32′46″ W.)
BULVE, WV | WP | (Lat. 38°13′20″ N., long. 081°42′43″ W.)
WISTA, WV | WP | (Lat. 38°17′01″ N., long. 081°27′47″ W.)
LEVII, WV | WP | (Lat. 38°22′20″ N., long. 081°05′52″ W.)
RONZZ, WV | WP | (Lat. 38°33′16″ N., long. 080°07′57″ W.)
HHOLZ, WV | WP | (Lat. 38°38′02″ N., long. 079°41′33″ W.)
HAMME, WV | WP | (Lat. 38°42′30″ N., long. 079°14′39″ W.)
CAPOE, VA | WP | (Lat. 38°51′13″ N., long. 078°22′27″ W.)
OTTTO, VA | WP | (Lat. 38°51′16″ N., long. 078°12′20″ W.)

Paragraph 6011 United States Area Navigation Routes

* * * * *

T-291 LOUIE, MD to Harrisburg (HAR), PA [New]
LOUIE, MD | Fix | (Lat. 38°36′44″ N., long. 076°18′04″ W.)
MORTY, MD | WP | (Lat. 39°19′51″ N., long. 076°24′41″ W.)
Harrisburg, PA (HAR) | VORTAC | (Lat. 40°18′08″ N., long. 077°04′10″ W.)
T-295 LOUIE, MD to Lancaster (LRP), PA [New]
LOUIE, MD | Fix | (Lat. 38°36′44″ N., long. 076°18′04″ W.)
MORTY, MD | WP | (Lat. 39°19′51″ N., long. 076°24′41″ W.)
Lancaster, PA (LRP) | VORTAC | (Lat. 40°07′12″ N., long. 076°17′29″ W.)

Issued In Washington, DC, on May 14, 2013.
Gary A. Norek,
Manager, Airspace Policy and ATC Procedures Group.

[FR Doc. 2013-11969 Filed 5-20-13; 8:45 am]

BILLING CODE 4910-13-P